DEPARTMENT OF TRANSPORTATION

Federal Aviation Administration

Notice of Intent To Rule on Request To Release Airport Property at the Sweetwater Municipal Airport in Sweetwater, Texas; Correction

AGENCY: Federal Aviation Administration (FAA), DOT.

ACTION: Notice of request to release airport property; correction.

SUMMARY: The FAA published a document in the Federal Register on March 15, 2017, concerning the release of airport property at the South Texas Regional Airport in Hondo, Texas. The document contained the incorrect airport in the subject heading.

FOR FURTHER INFORMATION CONTACT: Anthony Mekhail, 817-222-5663.

Correction

In the Federal Register of March 15, 2017, in FR Doc. 2017-05018, make the following corrections:

1. On page 13918, in the second column, the subject heading is corrected to “Notice of Intent to Rule on Request to Release Airport Property at Sweetwater Municipal Airport in Sweetwater, Texas,” as set out in the subject heading of this document.

2. On page 13918, in the third column, in the first sentence of the SUPPLEMENTARY INFORMATION section, the phrase “South Texas Regional Airport at Hondo” is corrected to “Sweetwater Municipal Airport in Sweetwater.”

Issued in Fort Worth, Texas, on March 22, 2017.
Ignacio Flores,
Director, Airports Division.

[FR Doc. 2017-06755 Filed 4-4-17; 8:45 am]

BILLING CODE 4910-13-P